DEPARTMENT OF LABOR

Employment and Training Administration

Proposed Information Collection Request Submitted for Public Comment and Recommendations; Labor Certification for the Temporary Employment of Nonimmigrant Aliens in Agriculture in the United States; Administrative Measures To Improve Program Performance

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) (44 U.S.C. 3506(c)(A)). This program helps to ensure that requested data can be provided in the desired format, reporting burden (time and financial resources) is minimized, collection instruments are clearly understood, and the impact of collection requirements on respondents can be properly assessed. Currently, the Employment and Training Administration, Office of National Programs, is soliciting comments concerning the proposed extension of the collection for the Labor Certification for the Temporary Employment of Nonimmigrant Aliens in Agriculture in the Unites States; Administrative Measures to Improve Program Performance. A copy of the proposed Information Collection Request (ICR) can be obtained by contacting the office listed below in the addressee section of this notice.

DATES: Written comments must be submitted to the office listed in the addressee's section below on or before October 18, 2005.

ADDRESSES: John R. Beverly, Administrator, Office of National Programs, U.S. Department of Labor, Employment and Training Administration, Room C-4312, 200 Constitution Avenue, NW., Washington, DC 20210, phone: (202) 693-3010 (this is not a toll-free number); Fax: (202) 693-2768; e-mail: ETAperforms@dol.gov.

FOR FURTHER INFORMATION CONTACT: Gregory Wilson, Program Analyst, Division of Foreign Labor Certification, U.S. Department of Labor, Employment & Training Administration, Room C-4312, 200 Constitution Avenue, NW., Room C-4312, Washington, DC 20210; phone (202) 693-3010 (this is not a toll-free number); Fax: (202) 693-2768; e-mail: ETAperforms@dol.gov.

SUPPLEMENTARY INFORMATION:

Background

At 64 FR 34958 (June 29, 1999), the Department amended its regulations to improve program performance related to the certification of temporary employment of nonimmigrant agricultural (H-2A workers) in the United States. One improvement was to modify the requirement that an employer notify the State Workforce Agency (SWA), in writing, of the exact date on which the H-2A workers depart for the employer's place of business. The rule states that the departure date is now deemed to be the third day before the employer's first date of need for the foreign workers. Only if the workers do not depart by the date of need is the employer required to notify the SWA as soon as the employer knows that the workers will not depart by the first date of need, but no later than such date of need. The employer also must notify the SWA of the workers' expected departure date en route to the employment, if known. The departure date is used as the starting date of the contract period for the purposes of the “50 percent rule” under 20 CFR 655.103(e). That regulation provides that the employer must continue to provide employment to any qualified and eligible U.S. worker who applies to the employer until 50 percent of the work contract period under which the foreign worker in the job has elapsed. The employer's obligation to engage in positive recruitment ends on the day the foreign workers depart for the employer's place of business. The employer, however, must keep an active job order on file until the “50 percent rule” has been met. The amendment to the regulations regarding the departure date notification substantially reduced the reporting burden on employers yet continued to allow the SWA to properly administer the “50 percent rule.”

II. Review Focus

The Department is particularly interested in comments which:

• Evaluate whether the proposed information collection is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collections techniques or other forms of information technology, e.g., permitting electronic submissions of responses.

III. Current Actions

DOL and the SWAs continue to use the dates listed on the employer's application to calculate the employer's responsibilities under the “50-percent rule.” The departure date (the third date before the date of need) is deemed the start date of the contract period in administration of the “50-percent rule” under 20 CR 655.103(e).

The collection of information requirement is being extended to reflect annual reporting hour burdens changes based on an increase in the number of respondents.

Type Of Review: Extension without change.

Agency: Employment and Training Administration, Labor.

Title: Labor Certification for the Temporary Employment of Nonimmigrant Aliens in Agriculture in the Unites States; Administrative Measures to Improve Program Performance.

OMB Number: 1205-0404.

Affected Public: Farms and other business or for-profit entities.

Total Respondents: 335.

Frequency Of Response: On occasion.

Total Responses: 335.

Average Burden Hours Per Response: 15 minutes.

Estimate Total Annual Burden Hours: 335 respondents × .25 hours = 84 hours.

Total Burden Cost (Capital/Startup): $0.

Total Burden Cost (Operating/Maintaining): $0.

Comments submitted in response to this notice will be summarized and/or included in the request for Office of Management and Budget approval of the Information Collection Request; they will also become a matter of public record.

Dated: August 15, 2005.
John R. Beverly,
Administrator, Office of National Programs.

[FR Doc. E5-4537 Filed 8-18-05; 8:45 am]

BILLING CODE 4510-30-P